DEPARTMENT OF JUSTICE

Notice of Lodging of Proposed Amendments to Partial Consent Decree Under the Comprehensive Environmental Response, Compensation and Liability Act (CERCLA)

Notice is hereby given that on March 8, 2005, proposed Amendments to Partial Consent Decree were lodged with the United States District Court for the Western District of Tennessee in United States v. Velsicol Chemical Corp., No. 91-2815-G (W.D. Tenn.). The proposed Amendments entered into among the United States on behalf of the Environmental Protection Agency, Velsicol Chemical Corporation (“Velsicol”), and the City of Memphis would substitute the Custodial Trust created in the bankruptcy settlement agreement in In re Fruit of the Loom, Inc., No. 99-4497 (Bankr. D. Del.) for Velsicol and would resolve Velsicol's obligations under the Partial Consent Decree as provided in the Amendments and the bankruptcy settlement agreement. The 1991 Partial Consent Decree concerns the North Hollywood Dump Site located in Memphis, Tennessee.

The Department of Justice will receive comments relating to the proposed Amendments for a period of thirty (30) days from the date of this publication. Comments should be addressed to the Assistant Attorney General, Environment and Natural Resources Division, P.O. Box 7611, U.S. Department of Justice, Washington, DC 20044-7611, and should refer to United States v. Velsicol Chemical Corp., DJ Ref. No. 90-11-2-629.

The proposed Amendments may be examined at the Office of the United States Attorney for the Western District of Tennessee, 800 Clifford Davis Federal Office Building, 167 N. Main Street, Memphis, Tennessee 38103, and at the Region 4 Office of the United States Environmental Protection Agency, 61 Forsyth Street, SW., Atlanta, Georgia 30303. During the public comment period, the proposed Amendments may also be examined on the following Department of Justice Web site, http://www.usdoj.gov/enrd/open.html. A copy of the proposed Amendments may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $29.50 (25 cents per page reproduction cost) payable to the U.S. Treasury for the entire Stipulated Order and attachments or the amount of $3.00 for the Amendments without attachments.

Bruce S. Gelber,
Section Chief, Environmental Enforcement Section, Environment and Natural Resources Division.

[FR Doc. 05-5195 Filed 3-15-05; 8:45 am]

BILLING CODE 4410-15-M